DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 5, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Special Supplemental Nutrition Program for Women, Infants, and Children WIC) Program and WIC Farmers' Market Nutrition Program (FMNP) Waivers

OMB Control Number: 0584-NEW.

Summary of Collection: USDA has legislative authority to grant waivers to the Special Supplemental Nutrition Program for Women, Infants, and Children (WIC) and WIC Farmers' Market Nutrition Program (FMNP) State agencies. The American Rescue Plan Act of 2021 (ARPA; Pub. L. 117-2) grants temporary waiver authority to WIC and WIC FMNP for the purpose of outreach, modernization, and innovation and The Access to Baby Formula Act of 2022 (ABFA; Pub. L. 117-129) grants permanent waiver authority to WIC during certain emergencies and supply chain disruptions. This information collection request covers activities associated with the waiver request process.

Need and Use of the Information: ARPA waivers are intended to provide flexibility to WIC and WIC FMNP State agencies as they carry out outreach, innovation, and program modernization efforts. In coordination with ARPA-funded projects, FNS anticipates that WIC and WIC FMNP State agencies will request waivers that will allow them to implement the grant-funded projects. Additionally, FNS anticipates that WIC and WIC FMNP State agencies will be interested in testing modernization projects that will not require funding, such as extending WIC certification periods to align household certification periods. FNS will offer three types of waivers to State agencies under ARPA's authority: (1) waivers requiring additional information, (2) accelerated waivers, and (3) ad hoc waivers.

Description of Respondents: State and Tribal government. Respondent groups include WIC and WIC FMNP State agencies (including Indian Tribal Organizations and U.S. Territories).

Number of Respondents: 140.

Frequency of Responses: Recordkeeping; Reporting: Annually.

Total Burden Hours: 831.

Ruth Brown,
Departmental Information Collection Clearance Officer.

[FR Doc. 2023-19102 Filed 9-1-23; 8:45 am]

BILLING CODE 3410-30-P